DEPARTMENT OF TRANSPORTATION

Office of the Secretary

Aviation Proceedings, Agreements Filed the Week Ending February 28, 2009

The following Agreements were filed with the Department of Transportation under the provisions of 49 U.S.C. Sections 412 and 414. Answers may be filed within 21 days after the filing of the application.

Docket Number: DOT-OST-2009-0048.

Date Filed: February 24, 2009.

Parties: Members of the International Air Transport Association.

Subject:

PTC COMP Mail Vote 589, Resolution 011a, Mileage Manual Non TC Member/Non IATA Carrier Sectors (Memo 1516).

Intended effective date: 15 March 2009.

Docket Number: DOT-OST-2009-0051.

Date Filed: February 26, 2009.

Parties: Members of the International Air Transport Association.

Subject:

TC12 North Atlantic—Middle East (except between USA and Jordan), TC12 Mid Atlantic—Middle East, TC12 South Atlantic—Middle East, Resolutions and Specified Fares Tables (Memo 0293).

Minutes: TC12 North, Mid, South Atlantic—Middle East, TC12 North, Mid, South Atlantic—Africa (Memo 0295/0278).

Intended effective date: 1 April 2009.

Docket Number: DOT-OST-2009-0052.

Date Filed: February 26, 2009.

Parties: Members of the International Air Transport Association.

Subject:

TC12 North Atlantic—Middle East between USA and Jordan, Resolutions and Specified Fares Tables (Memo 0294).

Minutes: TC12 North, Mid, South Atlantic—Middle East, TC12 North, Mid, South Atlantic—Africa (Memo 0295/0278).

Intended effective date: 1 April 2009.

Renee V. Wright,
Program Manager, Docket Operations, Federal Register Liaison.

[FR Doc. E9-6610 Filed 3-24-09; 8:45 am]

BILLING CODE 4910-9X-P